DEPARTMENT OF HEALTH AND HUMAN SERVICES

National Institutes of Health

National Cancer Institute; Amended Notice of Meeting

Notice is hereby given of a change in the meeting of the President's Cancer Panel, February 12, 2007, 8 a.m. to February 12, 2007, 6 p.m., University of Mississippi, Medical Center, 2500 North State Street, Jackson, MS 39216 which was published in the Federal Register on January 11, 2007, 72 FR 1335.

Due to inclement weather, this meeting is amended to reschedule the closed session on February 12, 2007, 4 p.m.-6 p.m. to March 8, 2007, 11 a.m.-1 p.m. as a telephone conference. The meeting is closed to the public.

Dated: March 5, 2007.
Anna Snouffer,
Acting Director, Office of Federal Advisory Committee Policy.

[FR Doc. 07-1109 Filed 3-8-07; 8:45 am]

BILLING CODE 4140-01-M